DEPARTMENT OF HOMELAND SECURITY

U.S. Customs and Border Protection

[CBP Dec. 17-02]

Tuna-Tariff Rate Quota for Calendar Year 2017 for Tuna Classifiable Under Subheading 1604.14.22, Harmonized Tariff Schedule of the United States

AGENCY: U.S. Customs and Border Protection, Department of Homeland Security.

ACTION: Announcement of the quota quantity of tuna in airtight containers for Calendar Year 2017.

SUMMARY: Each year, the tariff-rate quota for tuna described in subheading 1604.14.22, Harmonized Tariff Schedule of the United States (HTSUS), is calculated as a percentage of the tuna in airtight containers entered, or withdrawn from warehouse, for consumption during the preceding Calendar Year. This document sets forth the tariff-rate quota for Calendar Year 2017.

DATES: Effective Dates: The 2017 tariff-rate quota is applicable to tuna in airtight containers entered, or withdrawn from warehouse, for consumption during the period January 1, 2017 through December 31, 2017.

FOR FURTHER INFORMATION CONTACT: Melba Hubbard, Headquarters Quota Branch, Interagency Collaboration Division, Trade Policy and Programs, Office of Trade, U.S. Customs and Border Protection, Washington, DC 20229-1155, (202) 863-6560.

Background

It has been determined that 14,609,465 kilograms of tuna in airtight containers may be entered, or withdrawn from warehouse, for consumption at the rate of 6.0 percent ad valorem under subheading 1604.14.22, Harmonized Tariff Schedule of the United States (HTSUS) during the Calendar Year 2017. Any such tuna which is entered, or withdrawn from warehouse, for consumption during the current calendar year in excess of this quota will be dutiable at the rate of 12.5 percent ad valorem under subheading 1604.14.30 HTSUS.

Dated: May 9, 2017.
Brenda B. Smith,
Executive Assistant Commissioner, Office of Trade.

[FR Doc. 2017-10056 Filed 5-17-17; 8:45 am]

BILLING CODE 9111-14-P